COMMITTEE FOR THE IMPLEMENTATION OF TEXTILE AGREEMENTS

Announcement of Import Restraint Limits for Certain Cotton, Wool, Man-Made Fiber, Silk Blend and Other Vegetable Fiber Textiles and Textile Products Produced or Manufactured in the Republic of Korea

November 23, 2001.

AGENCY: Committee for the Implementation of Textile Agreements (CITA).

ACTION: Issuing a directive to the Commissioner of Customs establishing limits.

EFFECTIVE DATE: January 1, 2002.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in Korea and exported during the period January 1, 2002 through December 31, 2002 are based on limits notified to the Textiles Monitoring Body pursuant to the Uruguay Round Agreement on Textiles and Clothing (ATC).

Pursuant to the provisions of the ATC, the third stage of the integration of textile and apparel products into the General Agreement on Tariffs and Trade 1994 will take place on January 1, 2002 (see 60 FR 21075, published on May 1, 1995). Accordingly, certain previously restrained categories have been modified or eliminated and certain limits have been revised. Integrated products will no longer be subject to quota.

In the letter published below, the Chairman of CITA directs the Commissioner of Customs to establish the 2002 limits.

A description of the textile and apparel categories in terms of HTS numbers is available in the CORRELATION: Textile and Apparel Categories with the Harmonized Tariff Schedule of the United States (see Federal Register notice 65 FR 82328, published on December 28, 2000). Information regarding the 2002 CORRELATION will be published in the Federal Register at a later date.

Jim Bennett,
Acting Chairman, Committee for the Implementation of Textile Agreements.

Committee for the Implementation of Textile Agreements

November 23, 2001.

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2002, entry into the United States for consumption and withdrawal from warehouse for consumption of cotton, wool, man-made fiber, silk blend and other vegetable fiber textiles and textile products in the following categories, produced or manufactured in the Republic of Korea and exported during the twelve-month period beginning on January 1, 2002 and extending through December 31, 2002, in excess of the following levels of restraint:

Category | Twelve-month restraint limit
Group I |
200-220, 224-V ¹, 224-O ², 225-227, 300-326, 360-363, 369pt., ³, 400-414, 469pt., ⁴, 603, 604, 611-620, 625-629, 666pt. ⁵, as a group | 248,235,339 square meters equivalent.
Sublevels within Group I |
200 | 536,720 kilograms.
201 | 3,113,606 kilograms.
218 | 10,879,484 square meters.
219 | 9,906,522 square meters.
224-V | 12,488,686 square meters.
300/301 | 3,649,502 kilograms.
313 | 59,474,510 square meters.
314 | 33,160,379 square meters.
315 | 20,029,567 square meters.
317/326 | 22,102,274 square meters.
363 | 1,273,696 numbers.
410 | 3,776,838 square meters.
604 | 466,128 kilograms.
611 | 4,351,794 square meters.
613/614 | 7,252,989 square meters.
617 | 6,014,675 square meters.
619/620 | 100,521,986 square meters.
624 | 10,614,131 square meters.
625/626/627/628/629 | 18,567,652 square meters.
Group II |
237, 239pt. ⁶, 331pt. ⁷, 332-348, 351, 352, 359pt., 433-438, 440-448, 459-W ⁸, 459pt. ⁹, 631pt. ¹⁰, 633-648, 651, 652, 659-H ¹¹,659-S ¹² and 659pt. ¹³, as a group | 568,345,209 square meters equivalent.
Sublevels within Group II |
237 | 72,174 dozen.
239pt. | 291,836 kilograms.
333/334/335 | 326,385 dozen of which not more than 166,820 dozen shall be in Category 335.
336 | 68,975 dozen.
338/339 | 1,450,598 dozen.
340 | 754,311 dozen of which not more than 391,663 dozen shall be in Category 340-D ¹⁴.
341 | 200,297 dozen.
342/642 | 262,334 dozen.
345 | 140,923 dozen.
347/348 | 536,720 dozen.
351/651 | 275,588 dozen.
352 | 214,455 dozen.
433 | 14,372 dozen.
434 | 7,371 dozen.
435 | 37,462 dozen.
436 | 15,859 dozen.
438 | 63,582 dozen.
440 | 204,872 dozen.
442 | 53,592 dozen.
443 | 322,056 numbers.
444 | 58,400 numbers.
445/446 | 53,915 dozen.
447 | 91,983 dozen.
448 | 37,703 dozen.
459-W | 101,987 kilograms.
631pt. | 73,592 dozen pairs.
633/634/635 | 1,384,034 dozen of which not more than 156,946 dozen shall be in Category 633 and not more than 584,890 dozen shall be in Category 635.
636 | 297,611 dozen.
638/639 | 5,388,526 dozen.
640-D ¹⁵ | 3,234,819 dozen.
640-O ¹⁶ | 2,695,682 dozen.
641 | 1,093,330 dozen of which not more than 41,297 dozen shall be in Category 641-Y ¹⁷.
643 | 809,992 numbers.
644 | 1,218,597 numbers.
645/646 | 3,705,449 dozen.
647/648 | 1,412,150 dozen.
659-H | 1,469,293 kilograms.
659-S | 215,889 kilograms.
Level in Group III |
852, as a group | 13,291,359 square meters equivalent.
Levels not in a group
845 | 2,315,056 dozen.
846 | 823,868 dozen.
¹ Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36,0020.
²Category 224-O: all remaining HTS numbers in Category 224.
³ Category 369pt.: all HTS numbers except 4202.12.4000, 4202.12.8020, 4202.12.8060, 4202.22.4020, 4202.22.4500, 4202.22.8030, 4202.32.4000, 4202.32.9530, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302,51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.1020, 6307.10.1090, 6307.90.3010, 6307.90.4010, 6307.90.5010, 6307.90.8910, 6307.90.8945, 6307.90.9905, 6307.90.9982, 6406.10.7700, 9404.90.1000, 9404.90.8040 and 9404.90.9505.
⁴ Category 469pt.: all HTS numbers except 5601.29.0020, 5603.94.1010, 6304.19.3040, 6304.91.0050, 6304.99.1500, 6304.99.6010, 6308.00.0010 and 6406.10.9020.
⁵ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9984, 9404.90.8522 and 9404.90.9522.
⁶ Category 239pt.: only HTS number 6209.20.5040 (diapers).
⁷ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
⁸ Category 459-W: only HTS number 6505.90.4090.
⁹ Category 459pt.: all HTS numbers except 6505.90.4090 (Category 459-W); 6115.19.8020, 6117.10.1000, 6117.10.2010, 6117.20.9020, 6212.90.0020, 6214.20.0000, 6405.20.6030, 6405.20.6060, 6405.20.6090, 6406.99.1505, 6406.99.1560.
¹⁰ Category 631pt.: all HTS numbers except 6116.10.1730, 6116.10.4820, 6116.10.5520, 6116.10.7520, 6116.93.8800, 6116.93.9400, 6116.99.4800, 6116.99.5400 and 6116.99.9530.
¹¹ Category 659-H: only HTS numbers 6502.00.9030, 6504.00.9015, 6504.00.9060, 6505.90.5090, 6505.90.6090, 6505.90.7090 and 6505.90.8090.
¹² Category 659-S: only HTS numbers 6112.31.0010, 6112.31.0020, 6112.41.0010, 6112.41.0020, 6112.41.0030, 6112.41.0040, 6211.11.1010, 6211.11.1020, 6211.12.1010 and 6211.12.1020.
¹³ Category 659pt.: all HTS numbers except 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6115.11.0010, 6115.12.2000, 6117.10.2030, 6117.20.9030, 6212.90.0030, 6214.30.0000, 6214.40.0000, 6406.99.1510 and 6406.99.1540.
¹⁴ Category 340-D: only HTS numbers 6205.20.2015, 6205.20.2020, 6205.20.2025 and 6205.20.2030.
¹⁵ Category 640-D: only HTS numbers 6205.30.2010, 6205.30.2020, 6205.30.2030, 6205.30.2040, 6205.90.3030 and 6205.90.4030.
¹⁶ 640-O: only HTS numbers 6203.23.0080, 6203.29.2050, 6205.30.1000, 6205.30.2050, 6205.30.2060, 6205.30.2070, 6205.30.2080 and 6211.33.0040.
¹⁷ Category 641-Y: only HTS numbers 6204.23.0050, 6204.29.2030, 6206.40.3010 and 6206.40.3025.

The limits set forth above are subject to adjustment pursuant to the provisions of the ATC and administrative arrangements notified to the Textiles Monitoring Body.

Products in the above categories exported during 2001 shall be charged to the applicable category limits for that year (see directive dated November 14, 2000 ) to the extent of any unfilled balances. In the event the limits established for that period have been exhausted by previous entries, such products shall be charged to the limits set forth in this directive.

Products to be integrated into the General Agreement on Tariffs and Trade 1994 on January 1, 2002 (listed in the Federal Register notice published on May 1, 1995, 60 FR 21075) which are exported during 2001 shall be charged to the applicable 2001 limits to the extent of any unfilled balances. After January 1, 2002, should those 2001 limits be filled, such products shall no longer be charged to any limit.

The conversion factors for the following merged categories are listed below:

Category | Conversion factor (Square meters equivalent/category unit)
333/334/335 | 33.75
369-L/670-L/870 | 3.8 <--(for changes to year 2001 limit for group VI)
633/634/635 | 34.1
638/639 | 12.96

In carrying out the above directions, the Commissioner of Customs should construe entry into the United States for consumption to include entry for consumption into the Commonwealth of Puerto Rico.

The Committee for the Implementation of Textile Agreements has determined that these actions fall within the foreign affairs exception of the rulemaking provisions of 5 U.S.C. 553(a)(1).

Sincerely,

Jim Bennett,

Acting Chairman, Committee for the Implementation of Textile Agreements.

[FR Doc. 01-29624 Filed 11-28-01; 8:45 am]

BILLING CODE 3510-DR-S